POSTAL SERVICE

International Product Change—Inbound Market Dominant Registered Service Agreement

AGENCY: Postal Service™.

ACTION: Notice.

SUMMARY: The Postal Service gives notice of filing a request with the Postal Regulatory Commission to add Inbound Market Dominant Registered Service Agreement to the Market Dominant Product List.

DATES: Effective date: July 19, 2016.

FOR FURTHER INFORMATION CONTACT: Christopher C. Meyerson, (202) 268-7820.

SUPPLEMENTARY INFORMATION: The United States Postal Service® hereby gives notice that, pursuant to 39 U.S.C. 3642, on July 13, 2016, it filed with the Postal Regulatory Commission a Request of United States Postal Service to add Inbound Market Dominant Registered Service Agreement to the Market Dominant Product List. Documents are available at www.prc.gov, Docket Nos. MC2016-168 and R2016-6.

Stanley F. Mires,
Attorney, Federal Compliance.

[FR Doc. 2016-16986 Filed 7-18-16; 8:45 am]

BILLING CODE 7710-12-P